DEPARTMENT OF HEALTH AND HUMAN SERVICES

Centers for Disease Control and Prevention

Board of Scientific Counselors, Office of Public Health Preparedness and Response (BSC, OPHPR)

In accordance with section 10 (a) (2) of the Federal Advisory Committee Act (Pub. L. 92-463), CDC announces the following meeting of the aforementioned committee:

Time And Date: 3 p.m.-5 p.m., April 22, 2011.

Place: CDC, 1600 Clifton Road, NE., Global Communications Center, Building 19, Rooms 245/246, Atlanta, Georgia 30333.

This meeting is also accessible by Web Conference. Please contact the BSC Coordinator (see Contact Person for More Information) to obtain further instructions on how to participate by phone and online.

Status: Open to the public limited only by the space available. The meeting room accommodates approximately 40 people. Participation by Web Conference is limited to 50 ports. Visitors to the CDC Roybal campus must be processed in accordance with established federal policies and procedures and should pre-register for the meeting as described in Additional Information for Visitors.

Purpose: This Board is charged with providing advice and guidance to the Secretary, Department of Health and Human Services, the Assistant Secretary for Health, the Director, Centers for Disease Control and Prevention (CDC), and the Director, Office of Public Health Preparedness and Response (OPHPR), concerning strategies and goals for the programs and research within OPHPR, monitoring the overall strategic direction and focus of the OPHPR Divisions and Offices, and administration and oversight of peer review of OPHPR scientific programs. For additional information about the Board, please visit: http://emergency.cdc.gov/cdcpreparedness/science/counselors.asp.

Matters To Be Discussed: The agenda items for this meeting include: A briefing to the Board on the findings from the external peer review of OPHPR's Division of Emergency Operations followed by a vote on final recommendations, and updates from liaison representatives to the Board to share key highlights of their organization's activities that are relevant to the OPHPR mission, as time permits.

Additional Information for Visitors: All visitors to the CDC Roybal campus are required to present a valid form of picture identification issued by a State, federal or international government. To expedite the security clearance process for visitors to the CDC Roybal campus, all visitors must pre-register by submitting the following information by e-mail or phone (see Contact Person for More Information) no later than 12 noon (EDT) on Friday, April 15, 2011:

• Full Name,

• Organizational Affiliation,

• Complete Mailing Address,

• Citizenship, and

• Phone Number or E-mail Address.

For foreign nationals or non-U.S. citizens, pre-approval is required. Please contact the BSC Coordinator (see Contact Person for More Information) at least 7 days in advance of the posted pre-registration deadline for additional security requirements that must be met.

Contact Person for More Information: Matthew Jennings, BSC Coordinator, OPHPR, CDC, 1600 Clifton Road, NE., Mailstop D-44, Atlanta, GA 30333, Telephone: (404) 639-7357; Facsimile: (404) 639-7977; E-mail: OPHPR.BSC.Questions@cdc.gov.

The Director, Management Analysis and Service Office, has been delegated the authority to sign Federal Register notices pertaining to announcements of meetings and other committee management activities for both the Centers for Disease Control and Prevention, and the Agency for Toxic Substances and Disease Registry.

Dated: March 25, 2011.
Andre Tyler,
Acting Director, Management Analysis and Service Office, Centers for Disease Control and Prevention.

[FR Doc. 2011-7749 Filed 3-31-11; 8:45 am]

BILLING CODE 4163-18-P